DEPARTMENT OF ENERGY

Secretary of Energy Advisory Board; Notice of Open Teleconference Meeting

AGENCY: Department of Energy.

SUMMARY: This notice announces three open teleconference meetings of the Secretary of Energy Advisory Board's Panel on Emerging Technological Alternatives to Incineration. The Federal Advisory Committee Act (Pub. L. 92-463, 86 Stat. 770), requires that agencies publish these notices in the Federal Register to allow for public participation. Name: Secretary of Energy Advisory Board—Panel on Emerging Technological Alternatives to Incineration.

DATES: November 6, 11:30 a.m.-2 p.m. EST; November 20, 4 p.m.-6 p.m. EST; November 27, 4 p.m.-6 p.m. EST.

Call-In-Information: Participants may call the Office of the Secretary of Energy Advisory Board at (202) 586-7092 to register for a teleconference line and receive a call-in number. Public participation is welcomed. However, teleconference lines are limited, and are assigned on a first-come basis.

FOR FURTHER INFORMATION CONTACT: Mary Louise Wagner, Executive Director, or Francesca McCann, Staff Director, Office of the Secretary of Energy Advisory Board (AB-1), U.S. Department of Energy, 1000 Independence Avenue, SW., Washington, DC 20585, (202) 586-7092 or (202) 586-6279 (fax).

SUPPLEMENTARY INFORMATION: The purpose of the Secretary of Energy Advisory Board's Panel on Emerging Technological Alternatives to Incineration is to provide independent external advice and recommendations to the Secretary of Energy Advisory Board on emerging technological alternatives to incineration for the treatment of mixed waste which the Department of Energy should pursue. The Panel will focus on the evaluation of emerging non-incineration technologies for the treatment of low-level, alpha low-level and transuranic wastes containing polychlorinated biphenyls (PCBs) and other hazardous constituents. Waste categories to be addressed include inorganic homogeneous solids, organic homogeneous solids, and soils. The Panel will also evaluate whether the emerging non-incineration technologies could be implemented in a manner that would allow the Department of Energy to comply with all legal requirements, including those contained in the Settlement Agreement and Consent Order signed by the State of Idaho, Department of Energy, and the U.S. Navy in October 1995. Tentative Agenda:

Each open teleconference meeting will include panel discussion and allow for a public comment period during the last 30 minutes of the call. Members of the public wishing to comment will have an opportunity to address the Panel during the scheduled public comment periods:

November 6, 1:30-2 p.m. EST

November 20, 5:30-6 p.m. EST

November 27, 5:30-6 p.m. EST

Public Participation

In keeping with procedures, members of the public are welcome to listen to the business of the Panel on Emerging Technological Alternatives to Incineration and submit written comments or comment during the scheduled public comment periods. Members of the public will be heard in the order in which they sign up at the beginning of the meeting. The Panel will make every effort to hear the views of all interested parties. The Chairman of the Panel is empowered to conduct the calls in a fashion that will, in the Chairman's judgment, facilitate the orderly conduct of business. You may submit written comments to Mary Louise Wagner, Executive Director, Secretary of Energy Advisory Board, AB-1, U.S. Department of Energy, 1000 Independence Avenue, SW., Washington, DC 20585. The notice for the November 6, 2000, teleconference is being published less than 15 days before the date of the meeting due to the late resolution of programmatic issues.

Minutes

A copy of the minutes and a transcript of each of the open teleconference meetings will be made available for public review and copying approximately 30 days following the meeting at the Freedom of Information Public Reading Room, 1E-190 Forrestal Building, 1000 Independence Avenue, SW., Washington, DC, between 9 a.m. and 4 p.m., Monday through Friday except Federal holidays.

Issued at Washington, DC, on October 20, 2000.
Rachel M. Samuel,
Deputy Advisory Committee Management Officer.

[FR Doc. 00-27389 Filed 10-24-00; 8:45 am]

BILLING CODE 6450-01-P